DEPARTMENT OF AGRICULTURE

Submission for OMB Review; Comment Request

November 13, 2003.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_ORIA_Submission@OMB.EOP.GOV, or fax (202) 395-5806; and to Departmental Clearance Office, USDA OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Office of the Chief Information Officer

Title: FY2003 and FY2004 Farm Shows Marketing and Grower Relations Assessment.

OMB Control Number: 0503-NEW.

Summary of Collection: The President's Management Agenda called upon the Department of Agriculture (USDA) to improve its online delivery of government services. In carrying out this mission, the Office of the Chief Information Officer (OCIO) seeks approval of information gathering activities that will provide key information about the impact of the eGovernment program on its key constituents: farmers, growers, and producers. It will also elucidate the programs current limitations and future challenges. OCIO will collect the information using a questionnaire.

Need and Use of the Information: OCIO will collect information to determine the principle causes of farmer use or non-use of eGovernment applications to date and provide guidance about future eGovernment functionality desired by farmers. If the information were not collected it would hinder USDA's ability to determine citizen preferences in designing applications.

Description of Respondents: Farms; Individuals or households; Not-for-profit institutions; Business or other for-profit.

Number of Respondents: 5,000.

Frequency of Responses: Reporting: Other (one time).

Total Burden Hours: 2,500.

Farm Service Agency

Title: 7 CFR 764, Emergency Loan Program.

OMB Control Number: 0560-0159.

Summary of Collection: Section 302 (7 U.S.C. 1922) of the Consolidated Farm and Rural Development Act (CONACT) provides that “the Secretary is authorized to make and insure loans under this title to farmers and ranchers * * *” Section 339 (7 U.S.C. 1989) of the CONACT further provides that “the Secretary is authorized to make such rules and regulations, prescribe the terms and conditions for making and insuring loans, security instruments and agreements, except as otherwise specified herein, and to make such delegations of authority as she deems necessary to carry out this title.” The regulations at 7 CFR 764 establish the information collection for the Farm Service Agency (FSA) to make and service direct emergency loans. FSA must request certain documentation from its applicants in order to determine emergency loan eligibility, to determine if the operation is included in a designated disaster, and to determine if the applicant has suffered a qualifying production or physical loss.

Need and Use of the Information: The collected information is submitted by loan applicants and commercial lenders to FSA for loan officials to use in making eligibility and financial feasibility determinations as required by the CONACT. If the information were not collected, FSA would be unable to meet the congressionally mandated mission of the emergency loan program.

Description of Respondents: Farms; Business or other for-profit; Federal government; Individuals or households.

Number of Respondents: 2,958.

Frequency of Responses: Reporting and Other (em loan).

Total Burden Hours: 4,566.

Food and Nutrition Service

Title: Operating Guidelines, Forms and Waivers.

OMB Control Number: 0584-0083.

Summary of Collection: Section 11(d) of the Food Stamp Act of 1977, as amended, provides that the State agency of each participating State shall submit to the Secretary for approval a plan of operation specifying the manner in which the Food Stamp Program will be conducted within the State in every political subdivision. Section 11(e) of the Act provides that the State plan of operation shall provide for State agency verification of household eligibility prior to certification, completion of certification within 30 days of filing of the application, fair hearing, and submission of reports as required by the Secretary. The basic components of the State Plan of Operation are the Federal/State Agreement, the Budget Projection Statement, and the Program Activity Statement (272.2(a)(2)). Under part 272.2(c), the State agency shall submit to the Food and Nutrition Service (FNS) for approval a Budget Projection Statement (which projects total Federal administrative costs for the upcoming fiscal year) and a Program Activity Statement (which provides program activity data for the preceding fiscal year). FNS will collect information using forms FNS 366A and FNS 366B.

Need and Use of the Information: FNS will collect information to estimate funding needs and also provide data on the number of applications processed, number of fair hearings, and fraud control activity. FNS uses the data to monitor State agency activity levels and performance. If the information were not collected it would disrupt budget planning and delay appropriation distributions.

Description of Respondents: State, local or tribal government.

Number of Respondents: 53.

Frequency of Responses: Recordkeeping; Reporting: Annually.

Total Burden Hours: 2,707.

Risk Management Agency

Title: Dairy Livestock Insurance Program.

OMB Control Number: 0563-NEW.

Summary of Collection: The Risk Management Agency (RMA) provides insurance programs to crop producers who wish to mitigate economic risk by having adequate levels of insurance protection against crop production losses due to flood, drought and other perils. RMA will do a study of the Dairy Livestock Insurance program by collecting information about the dairy industry, livestock risk and livestock risk management. This study is authorized under section 131 of the Agricultural Risk Protection Act of 2000 and under section 523(b) of the Federal Crop Insurance Act.

Need and Use of the Information: RMA will conduct a telephone survey of sample of dairy livestock producers in California, Kentucky, Pennsylvania and Wisconsin. The data collected from the survey will provide feedback by identifying frequency and severity of perils; fraud, waste and abuse preventive measures and other pertinent information needed to formulate policies and develop meaningful insurance plans.

Description of Respondents: Farms.

Number of Respondents: 3,200.

Frequency of Responses: Reporting: Other (One time).

Total Burden Hours: 1,494.

Agricultural Marketing Service

Title: Tart Cherries Grown in the states of MI, NY, PA, OR, UT, WA, and WI.

OMB Control Number: 0581-0177.

Summary of Collection: Marketing Order No. 930 (7 CFR part 930) regulates the handling of tart cherries grown in Michigan, New York, Pennsylvania, Oregon, Utah, Washington and Wisconsin. The Agricultural Marketing Agreement Act of 1937 was designed to permit regulation of certain agricultural commodities for the purpose of providing orderly marketing conditions in inter- and intrastate commerce and improving returns to growers. The primary objective of the Order is to stabilize the supply of tart cherries. Only tart cherries that will be canned or frozen will be regulated. An 18 member Board comprised of producers, handlers and one public member with each member serving for a three-year term of office administer the Order.

Need and Use of the Information: Various forms were developed by the Board for persons to file required information relating to tart cherry inventories, shipments, diversions and other needed information to effectively carry out the requirements of the Order. The information collected is used to ensure compliance, verify eligibility, and vote on amendments, monitor and record grower's information. Authorized Board employees and the industry are the primary users of the information.

Description of Respondents: Business or other for profit; Farms.

Number of Respondents: 943.

Frequency of Responses: Reporting: On occasion.

Total Burden Hours: 852.

Ruth Brown,
Departmental Information Collection Clearance Officer.

[FR Doc. 03-28760 Filed 11-17-03; 8:45 am]

BILLING CODE 3410-01-M